ENVIRONMENTAL PROTECTION AGENCY

[FRL-7135-5]

Methods for Collection, Storage, and Manipulation of Sediments for Chemical and Toxicological Analyses: Technical Manual

AGENCY: Environmental Protection Agency (EPA).

ACTION: Notice of availability.

SUMMARY: The U.S. Environmental Protection Agency (EPA) is publishing a technical manual containing recommendations for collecting, handling, and manipulating sediment samples for physiochemical characterization and biological testing. This technical manual provides a compilation of methods that are most likely to yield accurate, representative sediment quality data based on the experience of many monitoring programs and researchers.

Availability of Document: Copies of the complete document, titled Methods for Collection, Storage, and Manipulation of Sediments for Chemical and Toxicological Analyses: Technical Manual (EPA-823-B-01-002) can be obtained from the National Service Center for Environmental Publications, P.O. Box 42419, Cincinnati, OH 45242, by phone at 1-800-490-9198 or on their Web site at www.epa.gov/ncepihom/orderpub.html. A pdf version of this document is available to be viewed or downloaded from the Office of Science and Technology's Web site on the Internet at www.epa.gov/waterscience/cs.

FOR FURTHER INFORMATION CONTACT: Richard Healy, EPA, Standards and Health Protection Division (4305), Office of Science and Technology, Ariel Rios Building, 1200 Pennsylvania Avenue, NW, Washington, DC 20460; or call (202) 260-7812; fax (202) 260-9830; or e-mail healy.richard@epa.gov.

SUPPLEMENTARY INFORMATION:

Background Information

Sediment contamination is a widespread environmental problem that can pose a threat to a variety of aquatic ecosystems. Sediment functions as a reservoir for common contaminants such as pesticides, herbicides, polychlorinated biphenyls (PCBs), polycyclic aromatic hydrocarbons (PAHs), and metals such as lead, mercury, and arsenic. Contaminated sediments represent a hazard to aquatic life through direct toxicity as well as to aquatic life, wildlife and human health through bioaccumulation.

Assessments of sediment quality commonly include analyses of anthropogenic contaminants, benthic community structure, physicochemical characteristics and direct measures of whole sediment and pore water toxicity. Accurate assessment of environmental hazard posed by sediment contamination depends in large part on the accuracy and representativeness of these analyses. The methods described in this Manual provide sediment collection, storage, and manipulation methods that are most likely to yield accurate, representative sediment quality data (e.g., sediment chemistry and toxicity) based on the experience of many monitoring programs and researchers. Information contained in this manual reflects the knowledge and experience of organizations that have developed internationally-recognized procedures and protocols. These organizations include:

• American Society for Testing and Materials,

• Puget Sound Estuary Program,

• Washington State Department of Ecology,

• US Environmental Protection Agency,

• US Army Corps of Engineers,

• National Oceanographic and Atmospheric Administration, and

• Environment Canada.

This manual provides technical support to those who design or perform sediment quality studies under a variety of regulatory and non-regulatory programs. The methods contained are widely relevant for anyone wishing to collect consistent, high quality sediment data. This manual is not guidance on how to implement any specific regulatory requirement but rather a compilation of technical methods on how to best collect environmental samples that most accurately reflect environmental conditions. This technical manual has no immediate or direct regulatory consequence. It does not impose legally binding requirements and may not apply to a particular situation depending on the circumstances. The EPA may change this technical manual in the future. EPA's Office of Science and Technology has reviewed and approved this technical manual for publication. Mention of trade names or commercial products constitutes neither endorsement by the EPA nor recommendation for use.

Dated: November 27, 2001.
Geoffrey H. Grubbs,
Director, Office of Science and Technology.

[FR Doc. 02-2236 Filed 1-29-02; 8:45 am]

BILLING CODE 6560-50-P